DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Idaho:
Ada (FEMA Docket No. B-1181) | City of Meridian, (10-10-0128P) | October 25, 2010, November 1, 2010, The Idaho Statesman | The Honorable Tammy de Weerd, Mayor, City of Meridian, 33 East Broadway Avenue, Suite 300, Meridian, ID 83642 | March 1, 2011 | 160180
Ada (FEMA Docket No. B-1181) | Unincorporated areas of Ada County, (10-10-0128P) | October 25, 2010, November 1, 2010, The Idaho Statesman | The Honorable Fred Tilman, Chairman, Ada County Board of Commissioners, Ada County Courthouse, 200 West Front Street, 3rd Floor, Boise, ID 83702 | March 1, 2011 | 160001
Illinois:
DuPage (FEMA Docket No. B-1181) | City of Darien, (10-05-1256P) | December 13, 2010, December 20, 2010, The Daily Herald | The Honorable Kathleen A. Weaver, Mayor, City of Darien, 1702 Plainfield Road, Darien, IL 60561 | April 19, 2011 | 170750
DuPage (FEMA Docket No. B-1181) | Unincorporated areas of DuPage County, (10-05-1256P) | December 13, 2010, December 20, 2010, The Daily Herald | The Honorable Robert J. Schillerstrom, Chairman, DuPage County Board, Jack T. Knuepfer Administration Building, 421 North County Farm Road, Wheaton, IL 60187 | April 19, 2011 | 170197
DuPage (FEMA Docket No. B-1181) | Village of Woodridge, (10-05-5743P) | November 25, 2010, December 2, 2010, The Bugle Newspaper | The Honorable William F. Murphy, Mayor, Village of Woodridge, 5 Plaza Drive, Woodridge, IL 60517 | November 12, 2010 | 170737
McHenry (FEMA Docket No. B-1183) | Unincorporated areas of McHenry County, (10-05-4602P) | February 7, 2011, February 14, 2011, The Northwest Herald | The Honorable Ken A. Koehler, Chairman, McHenry County Board, 2200 North Seminary Avenue, Woodstock, IL 60098 | June 14, 2011 | 170732
Will (FEMA Docket No. B-1181) | Village of Bolingbrook, (10-05-5743P) | November 25, 2010, December 2, 2010, The Bugle Newspaper | The Honorable Roger C. Claar, Mayor, Village of Bolingbrook, 375 West Briarcliff Road, Bolingbrook, IL 60440 | November 12, 2010 | 170812
Kansas:
Johnson (FEMA Docket No. B-1181) | City of Lenexa, (10-07-0912P) | November 30, 2010, December 7, 2010, The Legal Record | The Honorable Michael Boehm, Mayor, City of Lenexa, 12350 West 87th Street Parkway, Lenexa, KS 66215 | April 6, 2011 | 200168
Johnson (FEMA Docket No. B-1183) | City of Overland Park, (10-07-2077P) | January 5, 2011, January 12, 2011, The Sun Publications | The Honorable Carl Gerlach, Mayor, City of Overland Park, 8500 Santa Fe Drive, Overland Park, KS 66212 | May 12, 2011 | 200174
Johnson (FEMA Docket No. B-1180) | City of Leawood, (10-07-0270P) | August 25, 2010, September 1, 2010, The Sun Publications | The Honorable Peggy J. Dunn, Mayor, City of Leawood, 4800 Town Center Drive, Leawood, KS 66211 | August 11, 2010 | 200167
Johnson (FEMA Docket No. B-1180) | City of Overland Park, (10-07-0270P) | August 25, 2010, September 1, 2010, The Sun Publications | The Honorable Carl Gerlach, Mayor, City of Overland Park, 8500 Santa Fe Drive, Overland Park, KS 66212 | August 11, 2010 | 200174
Massachusetts:
Bristol (FEMA Docket No. B-1181) | Town of Easton, (11-01-0022P) | November 1, 2010, November 8, 2010, The Enterprise News | Mr. David Colton, Town of Easton Administrator, 136 Elm Street, Easton, MA 02356 | October 26, 2010 | 250053
Bristol (FEMA Docket No. B-1181) | Town of Easton, (11-01-0021P) | November 15, 2010, November 22, 2010, The Enterprise News | Mr. David Colton, Town of Easton Administrator, 136 Elm Street, Easton, MA 02356 | November 2, 2010 | 250053
Bristol (FEMA Docket No. B-1181) | Town of Swansea, (10-01-1791P) | October 20, 2010, October 27, 2010, The Spectator | The Honorable M. Scott Ventura, Chairman, Board of Selectmen, Swansea Town Hall Annex, 68 Stevens Road, Swansea, MA 02777 | October 4, 2010 | 255221
Michigan:
Bay (FEMA Docket No. B-1181) | Township of Frankenlust, (09-05-6111P) | October 7, 2010, October 14, 2010, The Bay City Democrat and The Bay County Legal News | Mr. Ronald Campbell, Township of Frankenlust Supervisor, 2401 Delta Road, Bay City, MI 48706 | February 11, 2011 | 260022
Minnesota:
Anoka (FEMA Docket No. B-1181) | City of Centerville, (10-05-2774P) | October 27, 2010, November 10, 2010, The Citizen | The Honorable Mary Capra, Mayor, City of Centerville, 1880 Main Street, Centerville, MN 55038 | March 10, 2011 | 270008
Olmsted (FEMA Docket No. B-1181) | City of Rochester, (10-05-2736P) | October 7, 2010, October 14, 2010, The Rochester Post-Bulletin | The Honorable Ardell F. Brede, Mayor, City of Rochester, 201 4th Street Southeast, Room 281, Rochester, MN 55904 | February 11, 2011 | 275246
Olmsted (FEMA Docket No. B-1181) | Unincorporated areas of Olmsted County, (10-05-2736P) | October 7, 2010, October 14, 2010, The Rochester Post-Bulletin | Mr. Richard G. Delvin, Olmsted County Administrator, 151 Southeast 4th Street, Rochester, MN 55904 | February 11, 2011 | 270626
Missouri:
Phelps (FEMA Docket No. B-1181) | City of Rolla, (10-07-0319P) | December 13, 2010, December 20, 2010, The Rolla Daily News | The Honorable William S. Jenks, III, Mayor, City of Rolla, 901 North Elm Street, Rolla, MO 65401 | April 19, 2011 | 290285
Phelps (FEMA Docket No. B-1180) | City of Rolla, (10-07-0800P) | September 27, 2010, October 4, 2010, The Rolla Daily News | The Honorable William S. Jenks, III, Mayor, City of Rolla, 901 North Elm Street, Rolla, MO 65401 | February 2, 2011 | 290285
Phelps (FEMA Docket No. B-1180) | Unincorporated areas of Phelps County, (10-07-0800P) | September 27, 2010, October 4, 2010, The Rolla Daily News | The Honorable Randy Verkamp, Presiding Phelps County Commissioner, 200 North Main Street, Rolla, MO 65401 | February 2, 2011 | 290824
St. Charles (FEMA Docket No. B-1181) | City of St. Peters, (10-07-1774P) | December 15, 2010, December 22, 2010, The Suburban Journals of St. Charles County | The Honorable Len Pagano, Mayor, City of St. Peters, 1 Saint Peters Centre Boulevard, St. Peters, MO 63376 | December 1, 2010 | 290319
St. Charles (FEMA Docket No. B-1181) | Unincorporated areas of St. Charles County, (10-07-1774P) | December 15, 2010, December 22, 2010, The Suburban Journals of St. Charles County | Mr. Steve Ehlmann, St. Charles County Executive, 100 North 3rd Street, St. Charles, MO 63301 | December 1, 2010 | 290315
Nebraska:
Douglas (FEMA Docket No. B-1183) | City of Omaha, (10-07-2288P) | January 13, 2011, January 20, 2011, The Daily Record | The Honorable Jim Suttle, Mayor, City of Omaha, Omaha-Douglas Civic Center, 1819 Farnam Street, Suite 300, Omaha, NE 68183 | December 30, 2010 | 315274
New Hampshire:
Hillsborough (FEMA Docket No. B-1180) | City of Manchester, (10-01-1093P) | July 29, 2010, August 5, 2010, The Union Leader Newspaper | The Honorable Ted Gatsas, Mayor, City of Manchester, 1 City Hall Plaza, Manchester, NH 03101 | December 3, 2010 | 330169
Ohio:
Butler (FEMA Docket No. B-1183) | City of Monroe, (10-05-4421P) | February 3, 2011, February 10, 2011, The Middletown Journal | The Honorable Robert E. Routson, Mayor, City of Monroe, 233 South Main Street, P.O. Box 330, Monroe, OH 45050 | January 24, 2011 | 390042
Franklin (FEMA Docket No. B-1183) | Unincorporated areas of Franklin County, (10-05-2538P) | January 24, 2011, January 31, 2011, The Daily Reporter | Mr. John O'Grady, President, Franklin County, 373 South High Street, 26th Floor, Columbus, OH 43215 | May 31, 2011 | 390167
Delaware (FEMA Docket No. B-1180) | Unincorporated areas of Delaware County, (10-05-4584P) | September 15, 2010, September 22, 2010, The Westerville News and Public Opinions | The Honorable Tommy Thompson, Delaware County Commissioner, 101 North Sandusky Street, Delaware, OH 43015 | January 20, 2011 | 390146
Franklin (FEMA Docket No. B-1180) | City of Westerville, (10-05-4584P) | September 15, 2010, September 22, 2010, The Columbus Dispatch | The Honorable Kathy Cocuzzi, Mayor, City of Westerville, 21 South State Street, Westerville, OH 43081 | January 20, 2011 | 390179
Greene (FEMA Docket No. B-1180) | City of Bellbrook, (10-05-2633P) | August 24, 2010, August 31, 2010, The Greene County Daily | The Honorable Mary Graves, Mayor, City of Bellbrook, 15 East Franklin Street, 2nd Floor, Bellbrook, OH 45305 | December 29, 2010 | 390194
Greene (FEMA Docket No. B-1180) | Unincorporated areas of Greene County, (10-05-2633P) | August 24, 2010, August 31, 2010, The Greene County Daily | The Honorable Rick Perales, Greene County Commissioner, 35 Greene Street, Xenia, OH 45385 | December 29, 2010 | 390193
Lorain (FEMA Docket No. B-1180) | City of Elyria, (09-05-6438P) | August 26, 2010, September 2, 2010, The Chronicle-Telegram | The Honorable William M. Grace, Mayor, City of Elyria, 131 Court Street, Elyria, OH 44035 | January 3, 2011 | 390350
Summit (FEMA Docket No. B-1181) | City of Akron, (10-05-5693P) | November 29, 2010, December 6, 2010, The Akron Legal News | The Honorable Donald L. Plusquellic, Mayor, City of Akron, 166 South High Street, Room 200, Akron, OH 44308 | December 17, 2010 | 390523
Rhode Island:
Providence (FEMA Docket No. B-1183) | City of Cranston, (11-01-0960P) | February 3, 2011, February 10, 2011, The Cranston Herald | The Honorable Allan Fung, Mayor, City of Cranston, Cranston City Hall, 869 Park Avenue, Cranston, RI 02910 | January 21, 2011 | 445396
Wisconsin:
Dane (FEMA Docket No. B-1180) | City of Sun Prairie, (10-05-3124P) | September 23, 2010, September 30, 2010, The Star | The Honorable Joe Chase, Mayor, City of Sun Prairie, 300 East Main Street, Sun Prairie, WI 53590 | August 30, 2010 | 550573
Green (FEMA Docket No. B-1181) | Unincorporated areas of Green County, (10-05-1296P) | October 21, 2010, October 28, 2010, The Post Messenger Recorder | The Honorable Arthur Carter, Chairman, Green County Board, 1016 16th Avenue, Monroe, WI 53566 | February 18, 2011 | 550157
Green (FEMA Docket No. B-1181) | Village of New Glarus, (10-05-1296P) | October 21, 2010, October 28, 2010, The Post Messenger Recorder | Mr. Jim Salter, President, Village of New Glarus Board, 319 2nd Street, P.O. Box 399, New Glarus, WI 53574 | February 18, 2011 | 550164
Manitowoc (FEMA Docket No. B-1180) | Unincorporated areas of Manitowoc County, (10-05-2864P) | September 13, 2010, September 20, 2010, The Herald-Times-Reporter | Mr. Bob Ziegelbauer, Manitowoc County Executive, Courthouse, 1010 South 8th Street, Manitowoc, WI 54220 | January 18, 2011 | 550236
Washington (FEMA Docket No. B-1181) | Unincorporated areas of Washington County, (10-05-2489P) | November 9, 2010, November 16, 2010, The West Bend Daily News | The Honorable Herbert J. Tennies, Chairman, Washington County, P.O. Box 1986, 432 East Washington Street, West Bend, WI 53095 | March 16, 2010 | 550471
Waukesha (FEMA Docket No. B-1181) | City of New Berlin, (10-05-2901P) | October 21, 2010, October 28, 2010, My Community Now—Southwest | The Honorable Jack F. Chiovatero, Mayor, City of Berlin, 3805 South Casper Drive, New Berlin, WI 53151 | October 4, 2010 | 550487

(Catalog of Federal Domestic Assistance No. 97.022, “Flood Insurance.”)

Dated: July 29, 2011.
Sandra K. Knight,
Deputy Federal Insurance and Mitigation Administrator, Mitigation, Department of Homeland Security, Federal Emergency Management Agency.

[FR Doc. 2011-20710 Filed 8-12-11; 8:45 am]

BILLING CODE 9110-12-P